DEPARTMENT OF TRANSPORTATION

Federal Motor Carrier Safety Administration

49 CFR Parts 383 and 384

[Docket No. FMCSA-2007-27659]

RIN 2126-AB02

Commercial Driver's License Testing and Commercial Learner's Permit Standards; Corrections

AGENCY: Federal Motor Carrier Safety Administration (FMCSA), DOT.

ACTION: Final rule; correction.

SUMMARY: FMCSA published a final rule in the Federal Register on Monday, May 9, 2011, that will be effective on July 8, 2011. This final rule amends the commercial driver's license (CDL) knowledge and skills testing standards and establishes new minimum Federal standards for States to issue the commercial learner's permit (CLP). Since the final rule was published, FMCSA identified minor discrepancies regarding section references in the regulatory text of the final rule. This document corrects those section references.

DATES: Effective July 8, 2011.

FOR FURTHER INFORMATION CONTACT: Robert Redmond, Office of Safety Programs, Commercial Driver's License Division, telephone (202) 366-5014 or e-mail robert.redmond@dot.gov. Office hours are from 8 a.m. to 4:30 p.m.

SUPPLEMENTARY INFORMATION:

Corrections

In the final rule published on May 9, 2011 (FR Doc. 2011-10510, 76 FR 26854), the following corrections are made:

a. On page 26893, in the third column, redesignate paragraphs (f) and (g) of § 383.153 as paragraphs (g) and (h); and

b. On page 26896, in the third column, correct amendatory instruction number 52 and its regulatory text to read:

52. Amend § 384.301 by adding a new paragraph (f) to read as follows:

§ 384.301 Substantial compliance—general requirements.

* * * * *

(f) A State must come into substantial compliance with the requirements of subpart B of this part in effect as of July 8, 2011, as soon as practical but, unless otherwise specifically provided in this part, not later than July 8, 2014.

Issued on: June 27, 2011.
William Bronrott,
Deputy Administrator.

[FR Doc. 2011-16683 Filed 7-1-11; 8:45 am]

BILLING CODE 4910-EX-P